NATIONAL SCIENCE FOUNDATION

Advisory Committee for Polar Programs; Notice of Meeting

In accordance with Federal Advisory Committee Act (Pub. L. 92-463, as amended), the National Science Foundation announces the following meeting:

Name: Advisory Committee for Polar Programs (1130).

Date/Time: November 5, 2012, 10:00 a.m. to 5:00 p.m. and November 6, 8:30 a.m. to 2:00 p.m.

Place: National Science Foundation, 4201 Wilson Boulevard, Room 1235, Arlington, VA 22230.

Type of Meeting: Open.

Contact Person: Dr. Fae Korsmo, Office of Polar Programs (OPP). National Science Foundation, 4201 Wilson Boulevard, Arlington, VA 22230. (703) 292-8030.

Minutes: May be obtained from the contact person listed above.

Purpose of Meeting: To advise NSF on the impact of its policies, programs, and activities on the polar research community, to provide advice to the Director of OPP on issues related to merit review and long-range planning.

Agenda: Staff presentations and discussion on opportunities and challenges for polar research, education and infrastructure; discussion of OPP Strategic Vision and Committee of Visitors process.

Dated: October 2, 2012.
Susanne Bolton,
Committee Management Officer.

[FR Doc. 2012-24717 Filed 10-5-12; 8:45 am]

BILLING CODE 7555-01-P